DEPARTMENT OF TRANSPORTATION

Federal Railroad Administration

Bay Area To Central Valley High-Speed Train Programmatic Environmental Impact Statement

AGENCY: Federal Railroad Administration (FRA), U.S. Department of Transportation (DOT).

ACTION: Notice of intent to prepare an environmental impact statement.

SUMMARY: FRA is issuing this notice to advise the public that FRA with the California High Speed Rail Authority (Authority) will jointly prepare a programmatic environmental impact statement (EIS) and programmatic (program) environmental impact report (EIR) for the San Francisco Bay Area to Central Valley portion of the California High-Speed Train (HST) System in compliance with state and Federal laws, in particular the California Environmental Quality Act (CEQA) and the National Environmental Policy Act (NEPA). FRA is also issuing this notice to solicit public and agency input into the development of the scope of the Bay Area to Central Valley HST Program EIR/EIS and to advise the public that outreach activities conducted by the Authority and its representatives will be considered in the preparation of the EIR/EIS. The FRA and the Authority recently completed a Program EIR/EIS as the first-phase of a tiered environmental review process for the Proposed California HST system, and as part of the selected HST Alternative defined a broad corridor between the Bay Area and Central Valley generally bounded by (and including) the Pacheco Pass (SR-152) to the South, the Altamont Pass (I-580) to the North, the BNSF Corridor to the East, and the Caltrain Corridor to the West. The Bay Area to Central Valley HST Program EIR/EIS will further examine this broad corridor as the next phase of the tiered environmental review process.

FOR FURTHER INFORMATION CONTACT: For further information regarding the programmatic environmental review, please contact: Mr. Dan Leavitt, Deputy Director of the California High-Speed Rail Authority, 925 L Street, Suite 1425, Sacramento, CA 95814, (telephone 916-324-1541) or Mr. David Valenstein, Environmental Program Manager, Office of Passenger Programs, Federal Railroad Administration, 1120 Vermont Avenue (Mail Stop 20), Washington, DC 20590, (telephone 202 493-6368).

SUPPLEMENTARY INFORMATION: The need for a high-speed train (HST) system is directly related to the expected growth in population and resulting increases in intercity travel demand in California over the next twenty years and beyond. As a result of this growth in travel demand, there will be more travel delays from the growing congestion on California's highways and at airports. In addition, there will be effects on the economy and quality of life from a transportation system that is less and less reliable as travel demand increases and from deteriorating air quality in and around California's metropolitan areas. The intercity highway system, commercial airports, and conventional passenger rail serving the intercity travel market are currently operating at or near capacity, and will require large public investments for maintenance and expansion in order to meet existing demand and future growth. The proposed high HST system would provide a new mode of high-speed intercity travel that would link the major metropolitan areas of the state; interface with international airports, mass transit, and highways; and provide added capacity to meet increases in intercity travel demand in California in a manner sensitive to and protective of California's unique natural resources.

Background

The California High-Speed Rail Commission, established in 1993 to investigate the feasibility of high-speed rail in California, concluded that a HST system is technically, environmentally, and economically feasible and set forth recommendations for the technology, corridors, financing, and operations of a proposed system. Following the Commission's work, a new nine-member California High-Speed Rail Authority (Authority) was established in 1996 and is authorized and directed by statute to undertake the planning for the development of a proposed statewide HST network that is fully coordinated with other public transportation services. The Legislature has granted the Authority the powers necessary to oversee the construction and operation of a statewide HST network once financing is secured. As part of the Authority's efforts to implement a HST system, the Authority adopted a Final Business Plan in June 2000, which reviewed the economic feasibility of a 700-mile-long HST system capable of speeds in excess of 200 miles per hour on a dedicated, fully grade-separated state-of-the-art track.

The FRA has responsibility for oversight of the safety of railroad operations, including the safety of any proposed high-speed ground transportation system. For the California proposal, the FRA would need to take certain regulatory actions before any new high-speed train system could operate.

Between 2001 and 2005, the Authority and FRA completed a Program EIR/EIS for the proposed California HST System. The Authority certified the Program EIR under CEQA and approved the proposed HST System, and the FRA issued a Record of Decision under NEPA on the Program EIS for the proposed California HST system. The Program EIR/EIS established the purpose and need for the HST system, analyzed a proposed high-speed train alternative and compared it with a No Project/No Action Alternative and a Modal Alternative. In conjunction with approving the Program EIR/EIS, the Authority and the FRA selected the High-Speed Train Alternative and selected certain corridors/general alignments, general station locations, mitigation strategies, design practices and further measures to guide development of the HST system at the site-specific project level to avoid and minimize potential adverse environmental impacts.

For the Bay Area to Central Valley segment, the Authority and FRA selected a broad corridor between the Bay Area and the Central Valley containing a number of feasible route options and proposed further study in this area to make programmatic selections of alignments and stations. The FRA consulted with the Council on Environmental Quality (CEQ), and CEQ concurred that the proposed tiering of programmatic decisions for this segment would be consistent with NEPA and would support compliance with Section 404 of the Clean Water Act. The primary purpose of the Bay Area to Central Valley HST Program EIR/EIS environmental process is to do further studies to help identify a preferred alignment between these two parts of the state.

The preparation of this Program EIR/EIS is being coordinated with the concurrent preparation of a Bay Area Regional Rail Plan by a coalition of the San Francisco Bay Area Rapid Transit District (BART), the Metropolitan Transportation Commission (MTC), the Peninsula Joint Powers Board (Caltrain) and the Authority. Bay Area voters in 2004 passed Regional Measure 2, which requires MTC to adopt a Regional Rail Plan. As stipulated in the Streets and Highways Code Section 30914.5 (f), the Regional Rail Plan will define the future passenger rail transportation network for the nine-county San Francisco Bay Area, including an evaluation of the HST options. Information on the Regional Rail Plan is available on the Internet at: http://www.bayarearailplan.info.

Alternatives

An initial alternatives evaluation will consider all reasonable HST alignment and station options within the selected broad corridor at a programmatic level of analysis to identify the most practical and feasible HST options for analysis in the Bay Area to Central Valley HST Program EIR/EIS. The alternatives will include:

No-Action Alternative: The take no action (No-Project) alternative is defined to serve as the baseline for comparison of HST alternatives. The No-Build Alternative represents the state's transportation system (highway, air, and conventional rail) as it exists in 2005, and as it would exist after completion of programs or projects currently planned for funding and implementation by 2020, according to the following sources of information:

• State Transportation Improvement Program (STIP)

• Regional Transportation Plans (RTPs) for all modes of travel

• Airport plans

• Intercity passenger rail plans (Amtrak Five- and Twenty-year Plans)

High-Speed Train Alternatives: The Authority and FRA have selected a steel-wheel-on-steel-rail HST system for advancement, over 700 miles long (1,126-kilometer long) capable of speeds in excess of 200 miles per hour (mph) (320 kilometers per hour [km/h]) on dedicated, fully grade-separated tracks, with state-of-the-art safety, signaling, and automated train control systems that would serve the major metropolitan centers of California, extending from Sacramento and the San Francisco Bay Area, through the Central Valley, to Los Angeles, Orange County, the Inland Empire, and San Diego. The Authority and the FRA have also selected a broad corridor for the HST between the Bay Area and Merced generally bounded by (and including) the Pacheco Pass (SR-152) to the South, the Altamont Pass (I-580) to the North, the BNSF Corridor to the East, and the Caltrain Corridor to the West. Within this corridor there are several potential alignments and potential station locations that will be considered. In heavily constrained urban areas, potential alignments that assume sharing corridors and/or tracks with other passenger rail services will be considered. The Authority and FRA will consider all reasonable and practical HST alignment and station alternatives and will focus the program environmental analysis on the alternatives that best meet the purpose and need of the HST system. Within the previously selected broad corridor, the Authority would not pursue alignments through Henry Coe State Park or a station at Los Banos.

Station placement would be determined on the basis of ridership potential, system-wide needs, and local planning constraints/conditions. Station placement will be coordinated with local and regional planning agencies, and will provide for seamless connectivity with other modes of travel. Potential station locations to be evaluated further include: Gilroy, San Jose, Redwood City, San Francisco International Airport (SFO), San Francisco, Merced, Modesto, Tracy, Pleasanton, Fremont/Union City, Oakland International Airport (OAK), and Oakland. The potential sites listed represent general locations for planning purposes.

Scoping and Comments

FRA encourages broad participation in the EIS process during scoping and review of the resulting environmental documents. Comments and suggestions are invited from all interested agencies and the public at large to insure the full range of issues related to the proposed action and all reasonable alternatives are addressed and all significant issues are identified. In particular, FRA is interested in determining whether there are areas of environmental concern where there might be the potential for significant impacts identifiable at a programmatic level. Public agencies with jurisdiction are requested to advise the FRA and the Authority of the applicable environmental review requirements of each agency, and the scope and content of the environmental information that is germane to the agency's statutory responsibilities in connection with the proposed project.

Public “scoping” meetings have been scheduled together with regional rail plan workshops as an important component of the scoping process for both the State and Federal environmental review. Scoping meetings will be advertised locally and additional public notice will be provided separately with the dates, times, and locations of these scoping meetings. Scoping meetings are scheduled for the following major cities:

• Oakland on November 29, 2005—Joseph P. Bort Metrocenter, Larry Dahms Auditorium, 101 Eighth Street, from 3 p.m. to 5 p.m. and 6 p.m. to 8 p.m.

• San Jose on November 30, 2005—New San Jose City Hall—Council Wing, Community Room, W120, 200 East Santa Clara Street, from 3 p.m. to 5 p.m. and 6 p.m. to 8 p.m.

• San Francisco on December 1, 2005—San Francisco Civic Center Complex, Hiram Johnson Building, Auditorium, 455 Golden Gate Avenue, from 3 p.m. to 5 p.m. and 6 p.m. to 8 p.m.

• Livermore on December 5, 2005—Livermore public San Francisco Civic Center Complex, Hiram Johnson Building, San Diego Room, 455 Golden Gate Avenue, from 3 p.m. to 5 p.m. and 6 p.m. to 8 p.m.

• Modesto on December 6, 2005—DoubleTree Hotel, 1150 Ninth Street, Modesto, from 3 p.m. to 5 p.m. and 6 p.m. to 8 p.m.

• Suisun City on December 8, 2005—Suisun City Hall, Council Chambers, 701 Civic Center Blvd., from 3 p.m. to 5 p.m. and 6 p.m. to 8 p.m.

Persons interested in providing comments on the scope of the programmatic EIR/EIS should do so by December 16, 2005. Comments can be sent in writing to Mr. David Valenstein at the FRA address identified above. Comments may also be addressed to Mr. Dan Leavitt of the Authority at their address identified above. Information and documents regarding the environmental review process will also be made available through the Authority's Internet site: http://www.cahighspeedrail.gov/.

Issued in Washington, DC, on November 18, 2005.
Mark E. Yachmetz,
Associate Administrator for Railroad Development.

[FR Doc. E5-6526 Filed 11-25-05; 8:45 am]

BILLING CODE 4910-06-P